DEPARTMENT OF JUSTICE

Antitrust Division

Notice Pursuant to the National Cooperative Research and Production Act of 1993—International Kitchen Exhaust Cleaning Association

Notice is hereby given that, on March 8, 2013, pursuant to Section 6(a) of the National Cooperative Research and Production Act of 1993, 15 U.S.C. 4301 et seq. (“the Act”), International Kitchen Exhaust Cleaning Association (“IKECA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is IKECA, Philadelphia, PA. The nature and scope of IKECA's standards development activities are to develop national standards for cleaning, inspection, and maintenance of commercial kitchen exhaust systems.

Patricia A. Brink,
Director of Civil Enforcement, Antitrust Division.

[FR Doc. 2013-07451 Filed 3-29-13; 8:45 am]

BILLING CODE P